DEPARTMENT OF TRANSPORTATION

Federal Aviation Administration

14 CFR Part 71

[Docket No. FAA-2016-4291; Airspace Docket No. 16-AGL-7]

Amendment of Class E Airspace for the following Indiana Towns; Goshen, IN; Greencastle, IN; Huntingburg, IN; North Vernon, IN; Rensselaer, IN; Tell City, IN; and Washington, IN

AGENCY: Federal Aviation Administration (FAA), DOT.

ACTION: Final rule.

SUMMARY: This action modifies Class E airspace extending upward from 700 feet above the surface at Virgil I. Grissom Municipal Airport, Bedford, IN; Goshen Municipal Airport, Goshen, IN; Putnam County Airport, Greencastle, IN; Huntingburg Airport, Huntingburg, IN; North Vernon Airport, North Vernon, IN; Jasper County Airport, Rensselaer, IN; Perry County Municipal Airport, Tell City, IN; and Daviess County Airport, Washington, IN. Decommissioning of non-directional radio beacons (NDBs), cancellation of NDB approaches, and implementation of area navigation (RNAV) procedures have made this action necessary for the safety and management of Instrument Flight Rules (IFR) operations at these airports. This action also updates the geographic coordinates of Goshen Municipal Airport, Putnam County Airport, North Vernon Airport, Jasper County Airport, and Perry County Municipal Airport to coincide with the FAA's aeronautical database. O'Neal Airport, Vincennes, IN, is removed from this rule as the Class E airspace area was removed in a rule published in the Federal Register of October 23, 2015.

DATES: Effective 0901 UTC, November 10, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace at Virgil I. Grissom Municipal Airport, Bedford, IN; Goshen Municipal Airport, Goshen, IN; Putnam County Airport, Greencastle, IN; Huntingburg Airport, Huntingburg, IN; North Vernon Airport, North Vernon, IN; Jasper County Airport, Rensselaer, IN; Perry County Municipal Airport, Tell City, IN; and Daviess County Airport, Washington, IN.

History

On May 3, 2016, the FAA published in the Federal Register a notice of proposed rulemaking (NPRM) (81 FR 26499) Docket No. FAA-2016-4291, to modify Class E airspace at Virgil I. Grissom Municipal Airport, Bedford, IN; Goshen Municipal Airport, Goshen, IN; Putnam County Airport, Greencastle, IN; Huntingburg Airport, Huntingburg, IN; North Vernon Airport, North Vernon, IN; Jasper County Airport, Rensselaer, IN; Perry County Municipal Airport, Tell City, IN; Daviess County Airport, Washington, IN; and remove controlled airspace at O'Neal Airport, Vincennes, IN. Interested parties were invited to participate in this rulemaking effort by submitting written comments on the proposal to the FAA. No comments were received. Subsequent to publication, the FAA found that Class E airspace extending upward from 700 feet above the surface at O'Neal Airport, Vincennes, IN, was previously removed in a rule published in the Federal Register of October 23, 2015 (80 FR 64316) Docket No. FAA-2015-2049.

Class E airspace designations are published in paragraph 6005 of FAA Order 7400.9Z, dated August 6, 2015, and effective September 15, 2015, which is incorporated by reference in 14 CFR part 71.1. The Class E airspace designation listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 modifies Class E airspace extending upward from 700 feet above the surface at the following airports:

Within a 6.5-mile radius of Virgil I. Grissom Municipal Airport, Bedford, IN;

Within a 6.8-mile radius of Goshen Municipal Airport, Goshen, IN, and updates the geographic coordinates of this airport;

Within a 6.5-mile radius of Putnam County Airport, Greencastle, IN, and updates the geographic coordinates of this airport;

Within a 6.5-mile radius of Huntingburg Airport, Huntingburg, IN, with a segment extending from the 6.5-mile radius to 11.2 miles east of the airport;

Within a 6.5-mile radius of North Vernon Airport, North Vernon, IN, and updates the geographic coordinates of this airport;

Within a 6.4-mile radius of Jasper County Airport, Rensselaer, IN, and updates the geographic coordinates of this airport;

Within a 6.4-mile radius of Perry County Municipal Airport, Tell City, IN, and updates the geographic coordinates of this airport; and

Within a 6.4-mile radius of Daviess County Airport, Washington, IN.

Airspace reconfiguration is necessary due to the decommissioning of NDBs, cancellation of NDB approaches, or implementation of RNAV procedures at the above airports. Controlled airspace is necessary for the safety and management of the standard instrument approach procedures for IFR operations at the airports.

O'Neal Airport, Vincennes, IN, is removed from this rulemaking as the airspace was removed in a previously published rulemaking (80 FR 64316, October 23, 2015), Docket No. FAA-2015-2049.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 6005 Class E Airspace Areas Extending Upward From 700 Feet or More Above the Surface of the Earth.

* * * * *

AGL IN E5 Bedford, IN [Amended]

Bedford, Virgil I. Grissom Municipal Airport, IN

(Lat. 38°50′24″ N., long. 86°26′43″ W.)

Bedford, Bedford Medical Center Heliport, IN Point In Space

(Lat. 38°51′51″ N., long. 86°31′27″ W.)

That airspace extending upward from 700 feet above the surface within a 6.5-mile radius of Virgil I. Grissom Municipal Airport, and within a 6-mile radius of the Bedford Medical Center Heliport point in space coordinates at lat. 38°51′51″ N., long. 86°31′27″ W.

* * * * *

AGL IN E5 Goshen, IN [Amended]

Goshen Municipal Airport, IN

(Lat. 41°31′35″ N., long. 85°47′39″ W.)

That airspace extending upward from 700 feet above the surface within a 6.8-mile radius of Goshen Municipal Airport.

* * * * *

AGL IN E5 Greencastle, IN [Amended]

Greencastle, Putnam County Airport, IN

(Lat. 39°38′01″ N., long. 86°48′50″ W.)

That airspace extending upward from 700 feet above the surface within a 6.5-mile radius of Putnam County Airport.

* * * * *

AGL IN E5 Huntingburg, IN [Amended]

Huntingburg Airport, IN

(Lat. 38°14′57″ N., long. 86°57′13″ W.)

That airspace extending upward from 700 feet above the surface within a 6.5-mile radius of Huntingburg Airport and within 2 miles either side of the 091° bearing from the airport extending from the 6.5-mile radius to 11.2 miles east of the airport.

* * * * *

AGL IN E5 North Vernon, IN [Amended]

North Vernon Airport, IN

(Lat. 39°02′43″ N., long. 85°36′20″ W.)

That airspace extending upward from 700 feet above the surface within a 6.5-mile radius of North Vernon Airport.

* * * * *

AGL IN E5 Rensselaer, IN [Amended]

Rensselaer, Jasper County Airport, IN

(Lat. 40°56′52″ N., long. 87°10′58″ W.)

That airspace extending upward from 700 feet above the surface within a 6.4-mile radius of Jasper County Airport.

* * * * *

AGL IN E5 Tell City, IN [Amended]

Tell City, Perry County Municipal Airport, IN

(Lat. 38°01′08″ N., long. 86°41′33″ W.)

That airspace extending upward from 700 feet above the surface within a 6.4-mile radius of Perry County Municipal Airport.

* * * * *

AGL IN E5 Washington, IN [Amended]

Washington, Daviess County Airport, IN

(Lat. 38°42′02″ N., long. 87°07′47″ W.)

That airspace extending upward from 700 feet above the surface within a 6.4-mile radius of Daviess County Airport.

Issued in Fort Worth, Texas, on July 25, 2016.
Walter Tweedy,
Acting Manager, Operations Support Group, ATO Central Service Center.

[FR Doc. 2016-18229 Filed 8-1-16; 8:45 am]

BILLING CODE 4910-13-P